DEPARTMENT OF THE INTERIOR

Fish and Wildlife Service

50 CFR Parts 32 and 36

[Docket No. FWS-R7-NWRS-2014-0005; FF07R06000 167 FXRS12610700000]

RIN 1018-BA31

Non-Subsistence Take of Wildlife, and Public Participation and Closure Procedures, on National Wildlife Refuges in Alaska

AGENCY: Fish and Wildlife Service, Interior.

ACTION: Proposed rule; announcement of open houses and public hearings.

SUMMARY: We, the U.S. Fish and Wildlife Service (USFWS), published a proposed rule elsewhere in today's Federal Register to amend our regulations for National Wildlife Refuges (refuges) in Alaska. The public comment period on the proposed rule closes on the date specified in that document. This supplementary document contains the dates, times, and locations for the upcoming open houses and public hearings on the proposed rule.

DATES: We will hold nine open houses and public hearings on the proposed rule as follows:

Date | City | Time of open house | Time of public hearing
January 26 , 2016 | Kotzebue, Alaska | 1:00 p.m. to 2:00 p.m. | 2:30 p.m. to 4:30 p.m.
January 27, 2016 | Kodiak, Alaska | 4:00 p.m. to 5:00 p.m. | 5:30 p.m. to 7:30 p.m.
February 8, 2016 | Bethel, Alaska | 4:00 p.m. to 5:00 p.m. | 5:30 p.m. to 7:30 p.m.
February 10, 2016 | Fairbanks, Alaska | 5:00 p.m. to 6:00 p.m. | 6:30 p.m. to 8:30 p.m.
February 11, 2016 | Tok, Alaska | 5:00 p.m. to 6:00 p.m. | 6:30 p.m. to 8:30 p.m.
February 16, 2016 | Soldonta, Alaska | 4:00 p.m. to 5:00 p.m. | 5:30 p.m. to 7:30 p.m.
February 18, 2016 | Anchorage, Alaska | 4:00 p.m. to 5:00 p.m. | 5:30 p.m. to 7:30 p.m.
March 1, 2016 | Dillingham, Alaska | 4:00 p.m. to 5:00 p.m. | 5:30 p.m. to 7:30 p.m.
March 3, 2016 | Galena, Alaska | 1:00 p.m. to 2:00 p.m. | 2:30 p.m. to 4:30 p.m.

ADDRESSES: Document Availability: You may obtain copies of the proposed rule at http://www.regulations.gov at Docket No. FWS-R7-NWRS-2014-0005.

Comment Submission: You may submit comments on the proposed rule by any one of the following methods:

(1) Electronically: Go to the Federal eRulemaking Portal: http://www.regulations.gov. In the Search box, enter FWS-R7-NWRS-2014-0005, which is the docket number for this rulemaking. Then click on the Search button. On the resulting page, you may submit a comment by clicking on “Comment Now!”

(2) By hard copy: Submit by U.S. mail or hand-delivery to: Public Comments Processing, Attn: FWS-R7-NWRS-2014-0005; Division of Policy, Performance, and Management Programs; U.S. Fish and Wildlife Service, MS: BPHC; 5275 Leesburg Pike, Falls Church, VA 22041-3803.

(3) At open houses or the public hearings: Written comments will be accepted by Service personnel at any of the nine scheduled open houses or public hearings. Public testimony will be recorded and submitted for the record at the public hearings via a court reporter.

We request that you send comments only by the methods described above. We will post all comments on http://www.regulations.gov. This generally means that we will post any personal information you provide us.

Open Houses and Public Hearings: We will hold open houses and public hearings at the following locations:

City | Location information
Kodiak, Alaska | Kodiak National Wildlife Refuge Visitor Center, 402 Center Ave, Kodiak, Alaska; 907-487-2600.
Bethel, Alaska | Yukon Delta National Wildlife Refuge Conference Room, 807 Chief, Eddie Hoffman Highway, Bethel, Alaska; 907-543-3151.
Fairbanks, Alaska | Morris Thompson Cultural and Visitor Center, 101 Dunkel St., Fairbanks, Alaska; 907-456-0440.
Tok, Alaska | Tok School, 249 Jon Summar Road, Tok, Alaska; 907-883-5312.
Soldonta, Alaska | Kenai National Wildlife Refuge Visitor Center, Ski Hill Road, Soldotna, Alaska; 907-260-2820.
Anchorage, Alaska | U.S. Fish and Wildlife Service Regional Office, Gordon Watson Conference Room, 1011 Tudor Rd., Anchorage, Alaska; 907-786-3872.
Dillingham, Alaska | Dillingham City Council Chambers, 141 Main Street, Dillingham, Alaska; 907-842-1063.
Galena, Alaska | Charlie Larsen Community Hall, Galena, Alaska; 907-656-1231.
Kotzebue, Alaska | Selawik National Wildlife Refuge Conference Room at the Selawik National Wildlife Refuge Headquarters, 160 Second Avenue, Kotzebue, Alaska; 907-442-3799.

FOR FURTHER INFORMATION CONTACT: Stephanie Brady, Chief of Conservation Planning and Policy, National Wildlife Refuge System, Alaska Regional Office, 1011 E. Tudor Rd., Mail Stop 211, Anchorage, AK 99503; telephone (907) 306-7448.

SUPPLEMENTARY INFORMATION:

Background

We published a proposed rule elsewhere in today's Federal Register to clarify how our existing mandates for the conservation of natural and biological diversity, biological integrity, and environmental health on refuges in Alaska relate to predator control; prohibit several particularly effective methods and means for take of predators; and update our public participation and closure procedures. The proposed rule would not change Federal subsistence regulations or restrict the taking of fish or wildlife for subsistence uses under Federal subsistence regulations. See the proposed rule and associated environmental assessment at http://www.regulations.gov at Docket No. FWS-R7-NWRS-2014-0005 for further details.

Open Houses and Public Hearings

We are holding nine open houses and public hearings on the dates listed above in the DATES section at the locations listed above in the ADDRESSES section. We are holding the public hearings to provide interested parties an opportunity to present verbal testimony (formal, oral comments) or written comments regarding the proposed rule and associated environmental assessment. A formal public hearing is not, however, an opportunity for dialogue with the Service; it is only a forum for accepting formal verbal testimony. In contrast to the public hearings, the open houses allow the public the opportunity to interact with Service staff, who will be available to provide information and address questions on the proposed rule and the environmental assessment.

We cannot accept verbal testimony at any of the open houses; verbal testimony can only be accepted at the public hearings. Anyone wishing to make an oral statement at a public hearing for the record is encouraged to provide a written copy of their statement to us at the hearing. In the event there is a large attendance, the time allotted for oral statements may be limited. Speakers can sign up at a hearing if they desire to make an oral statement. Oral and written statements receive equal consideration. There are no limits on the length of written comments submitted to us.

Persons with disabilities needing reasonable accommodations to participate in an open house or public hearing should contact Stephanie Brady, Chief of Conservation Planning and Policy, National Wildlife Refuge System, Alaska (see FOR FURTHER INFORMATION CONTACT). Reasonable accommodation requests should be received at least 3 business days prior to the open house or public hearing to help ensure availability; American Sign Language or English as a second language interpreter needs should be received at least 2 weeks prior to the open house or public meeting.

Authors

The primary author of this document is Stephanie Brady, Chief of Conservation Planning and Policy, National Wildlife Refuge System, Anchorage Regional Office.

Authority

The authority for this action is 5 U.S.C. 301; 16 U.S.C. 460k et seq., 664, 668dd-668ee, 715i, and 3101 et seq.

Karen Hyun,
Deputy Assistant Secretary for Fish and Wildlife and Parks.

[FR Doc. 2016-00021 Filed 1-7-16; 8:45 am]

BILLING CODE 4333-15-P